DEPARTMENT OF AGRICULTURE

Forest Service

San Bernardino National Forest, California, Proposed North-South Project EIR/EIS

AGENCY: Forest Service, USDA.

ACTION: Notice of intent to prepare a joint Environmental Impact Report/Environmental Impact Statement for the North-South Project.

SUMMARY: Pursuant to section 102(2)(C) of the National Environmental Policy Act of 1969 (NEPA), as amended, notice is hereby given that the San Bernardino National Forest (Forest Service), together with the California Public Utilities Commission (CPUC), intend to prepare a joint Environmental Impact Report and Environmental Impact Statement (EIR/EIS) for the Southern California Gas Company (SoCal Gas) and San Diego Gas and Electric (SDG&E) proposed North-South Project.

DATES: All scoping comments must be received by November 23, 2015. The draft environmental impact statement is expected June 2016 and the final environmental impact statement is expected December 2016.

ADDRESSES: You may submit comments to Eric Chiang, California Public Utilities Commission, and Jody Noiron, Forest Supervisor, San Bernardino National by any of the following methods:

Email: North-South@ene.com.

Mail: Public Scoping Comments, RE: North-South Project, 505 Sansome Street, Suite 300, San Francisco, CA 94111.

Fax: (415) 398-5326.

FOR FURTHER INFORMATION CONTACT: Information can be requested by leaving a voice message at (844) 277-2475, or by checking the project Web site at http://www.cpuc.ca.gov/Environment/info/ene/n-s/northsouth.html.

Individuals who use telecommunication devices for the deaf (TDD) may call the Federal Information Relay Service (FIRS) at 1-800-877-8339 between 8 a.m. and 8 p.m., Eastern Time, Monday through Friday.

SUPPLEMENTARY INFORMATION: The primary components of the Proposed Project include the construction of a 36-inch-diameter natural gas transmission pipeline and the rebuilding of the Adelanto Compressor Station. The pipeline would be primarily constructed within existing public and private rights-of-way. The Adelanto to Moreno pipeline would be approximately 65 miles in length and would begin at the Adelanto Compressor Station in the high desert city of Adelanto and would proceed in a southerly direction through the Cajon Pass and the San Bernardino National Forest, terminating at the Moreno Pressure Limiting Station in the City of Moreno Valley. Approximately eight miles of the proposed pipeline and associated temporary construction areas cross lands subject to Forest Service jurisdiction. The balance of the alignment crosses through non-federal land in San Bernardino and Riverside Counties along public roads.

The Adelanto Compressor Station would be rebuilt with approximately 30,000 horsepower (HP) of compression in order to accommodate the design throughput. Additional Proposed Project components include: (i) Installation of additional pressure limiting equipment at Moreno Pressure Limiting Station and Whitewater Pressure Limiting Station, (ii) installation of pressure limiting equipment at the proposed Shaver Summit Pressure Limiting Station near the City of Indio and at the Desert Center Compressor Station near the community of Desert Center, and (iii) installation of 16 main line block valves.

Purpose and Need for Action

The Forest Service must respond to SoCalGas and SDG&E's application for a new natural gas transmission pipeline in the Cajon Pass designated utility corridor in a manner that is consistent with the Forest Service special use regulations (36 CFR part 251 Subpart B), the Mineral Leasing Act of 1920, as amended, and the Land Management Plan (LMP). The Forest Service purpose and need will guide the development of alternatives considered on National Forest System lands.

The Cajon Pass corridor has a long history of serving as a major utility and transportation corridor into southern California. It was designated as a utility corridor when the LMP was revised in 2006, and was included as a “Section 368” corridor by the LMP amendment signed by the Natural Resources and Environment Under Secretary of Agriculture in 2009. Designated corridors are the primary agency alternative for siting energy transmission projects.

Permits issued by the Forest Service are required by law to be consistent with the LMP. The LMP identifies suitable uses within various land use zones, describes desired conditions based on the LMP goals and objectives, and sets resource management standards. The joint EIR/EIS will evaluate the consistency of the proposed project and any alternatives with the LMP. Based on an initial review of the proposed project, project specific LMP amendments may be required to resolve potential conflicts with the plan Land Use Zones and the plan standards associated with riparian areas, scenery management, and the Pacific Crest Trail.

Proposed Action

The Forest Service proposed action would authorize the construction, operation, and maintenance of a 36-inch-diameter natural gas transmission line, associated valve stations, and access roads on National Forest System lands within the San Bernardino National Forest. Temporary work areas or areas needed for pre-construction surveys, including geological explorations, would also be authorized. The pipeline Right-of-Way would be authorized by a 50 year permit or easement under the authority of the Mineral Leasing Act.

Possible Alternatives

The EIR/EIS will describe and evaluate the comparative merits of a reasonable range of alternatives to the proposed action. Alternatives to be analyzed in the EIR/EIS will be developed during the environmental review process and will consider input received during scoping, and will include the no action alternative as required by law.

Responsible Official

The Responsible Official for the Forest Service decision is Randy Moore, Regional Forester, Pacific Southwest Region. Jody Noiron, Forest Supervisor, San Bernardino National Forest, will be the Forest Service official responsible for conducting the environmental review.

Nature of Decision To Be Made

The CPUC has independent jurisdiction over the entire project, and will determine if SoCalGas' and SDG&E's application for authority to recover North-South Project revenue requirements in customer rates, and for approval of related cost allocation and rate design proposals, is in the public interest, and if so, under what conditions the authority would be granted. If the CPUC approves the proposed project, the Forest Service will decide whether or not to authorize the portions of the project on National Forest System lands, and if so, under what conditions.

Preliminary Issues

The Forest Service and CPUC have identified potential issues and impacts to the existing environment that require a detailed analysis in the EIR/EIS. Those issues and impacts include aesthetics, air quality, biological resources, heritage resources, paleontological resources, greenhouse gas emissions, fire, water quality, land use, noise, public services, recreation, socioeconomics and environmental justice, roadless areas (Cajon Roadless Area), and transportation. No determinations have yet been made as to the significance of these potential impacts; such determinations will be made in the environmental analysis conducted in the EIR/EIS after the issues are considered thoroughly. This overview is presented to assist the public and agencies in preparing written scoping comments.

Permits or Licenses Required

SoCalGas and SDG&E would be required to obtain any applicable discretionary and ministerial permits from federal, state, and local agencies prior to construction of the project. Those permits could include, but are not limited to, permits or certificates required by the Clean Water Act and administered by the United States Army Corps of Engineers and the State and Regional Water Resource Control Boards, permits related to the Clean Air Act administered by the State or Regional Air Quality Control Boards, and wildlife and habitat related permits administered by the United States Fish and Wildlife Service and California Department of Fish and Wildlife.

Invitation to Cooperating Agencies

The Forest Service invites federal, state, or local agencies and tribes to join as cooperating agencies. Requests for cooperating agency status may be submitted to Forest Supervisor Jody Noiron, San Bernardino National Forest, 602 S. Tippecanoe Ave., San Bernardino, CA 92408.

Scoping Process

The CPUC and Forest Service are initiating the joint CEQA/NEPA scoping process with this Notice of Intent and associated Joint Notice of Preparation/Scoping Notice. The comments received during scoping will help guide the development of the EIR/EIS. Three public meetings will be held during the scoping process to answer questions about the proposed project and to accept comments on the scope of the analysis. Meetings will be held at the following dates and locations:

1. October 27, 2015 from 6 to 8:30 p.m. at San Gorgonio High School, 2299 Pacific Street, San Bernardino, CA

2. October 28, 2015 from 6 to 8:30 p.m. at the Courtyard Marriott, 9619 Mariposa Road, Hesperia, CA

3. October 29, 2015 from 6 to 8:30 p.m. at the Moreno Valley Conference and Recreation Center, 14075 Frederick Street, Moreno Valley, CA

It is important that reviewers provide their comments at such times and in such a way that they are useful to the CPUC and Forest Service preparation of the EIR/EIS. Therefore, comments should be provided prior to the close of the comment period and should clearly articulate the reviewer's concerns and contentions.

Comments received during scoping, including names and addresses of those who comment, will be part of the public record for this proposed project. Comments submitted anonymously will be accepted and considered; however, anonymous comments will not provide the Forest Service with the ability to provide the respondent with subsequent environmental documents and will not provide the respondent standing to participate in subsequent administrative or judicial review of the Forest Service decision. This project will follow the predecisional administrative review process pursuant to 36 CFR 218, Subparts A and B.

Dated: September 28, 2015.
Jody Noiron,
Forest Supervisor, San Bernardino National Forest, USDA Forest Service.

[FR Doc. 2015-25095 Filed 10-1-15; 8:45 am]

BILLING CODE 3410-11-P